ENVIRONMENTAL PROTECTION AGENCY

[EPA-HQ-OPPT-2019-0075; FRL-9992-77]

Certain New Chemicals; Receipt and Status Information for March 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 03/01/2019 to 03/31/2019.

DATES: Comments identified by the specific case number provided in this document must be received on or before July 22, 2019.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

What action is the Agency taking?

This document provides the receipt and status reports for the period from 03/01/2019 to 03/31/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved* From 03/01/2019 to 03/31/2019
Case No. | Version | Received date | Manufacturer | Use | Chemical substance
J-19-0018 | 2 | 3/5/2019 | CBI | (G) Protein production | (G) Protein-producing modified microorganism, with chromosomally-borne modifications.
J-19-0019 | 1 | 3/20/2019 | Danisco US, Inc. | (G) Production of an enzyme substance | (G) Genetically modified microorganism for the production of an enzyme substance.
J-19-0020 | 1 | 3/20/2019 | Danisco US, Inc | (G) Production of an enzyme substance | (G) Genetically modified microorganism for the production of an enzyme substance.
P-16-0225A | 2 | 3/14/2019 | International Flavors | (S) The notified substance will be used as a fragrance ingredient, being blended (mixed) with other fragrance ingredients to make fragrance oils that will be sold to industrial and commercial customers for their incorporation into soaps, detergents, cleaners, air fresheners, candles and other similar industrial, household and consumer products | (S) isomer mixture of Cyclohexanol, 4-ethylidene-2-propoxy- (CAS 1631145-48-6) (35-45%) and Cyclohexanol, 5-ethylidene-2-propoxy.
P-16-0422A | 4 | 3/20/2019 | Polymer Additives Inc | (G) Additive for Polymers | (S) 1,2-Cyclohexanedicarboxylic acid, 1-(phenylmethyl) ester, ester with 2,2,4-trimethyl-1,3-pentanediol mono(2-methylpropanoate).
P-16-0493A | 7 | 2/7/2019 | CBI | (G) Paint | (G) Dicarboxylic acids, polymers with alkyl prop-2-enoate, alkyl 2-methylprop-2-enoate, alkyl [(alkenyl) alkyl] alkanediol, alkanediol, alkanedioic acid, alkyl 2-methylprop-2-enoate, alkyl prop-2-enoic acid, alkylene [Isocyanatocarbomonocyle] and alkanediol, alkanolamine- blocked, compds with 2- (alkylamino)alkanol.
P-16-0593A | 4 | 2/22/2019 | Emery Oleochemicals | (S) Aromatic polyester polyol for rigid foam | (G) Aromatic Polyester Polyol.
P-17-0108A | 5 | 2/27/2019 | Crison LLC | (G) The product of this PMN is typically added at a rate of 3-5% of the collector package. The product is added after the grinding of the ore, along with copious amounts of water to enable the flotation of the desired mineral. The product binds to the target mineral and makes it hydrophobic, enabling the dissolved gas flotation system to float the target mineral. The collected target mineral concentrate (with the product bound to them) is then sent to a metullurgy plant for further purification. The high temperature processing results in all the organics (including the product) being burned off. The resulting combustion products are scrubbed as required by the mettullurgical plants permits. A very small amount of product settles with the larger particles of ore that contain target mineral. This product goes with the gangue to the tailing ponds. The tailing ponds have their own set of permits but are isolated with various membrane and other groundwater protection methods that are beyond the scope of this application. It is worth noting that only 3-5% of the collector package at this time is made up of the product of this PMN. The chemistry is an incremental improvement on the currently commercially practiced collection method, containing the same functional groups and similar solubilities. Thus, the product of this PMN is readily detected or measured with current monitoring at the use sites. Because the product is added at a stage where large amounts of water are also added, the current international users wash the drums with large amounts of water, and the wash water is added to the process with the prime material as it is added | (S) Carbonodithioic acid, O-[2-[(dithiocarboxy)amino]-2-methylpropyl] ester, sodium salt (1:2).
P-17-0240A | 2 | 3/1/2019 | Ashland, Inc | (G) Encapsulanting polymer | (G) Alkenoic acid, polymer with alkanepolyolpolyacrylate, 2,2′-azobis[2-methylbutanenitrile]-initiated.
P-17-0240A | 3 | 3/7/2019 | Ashland, Inc | (G) Encapsulanting polymer | (G) Alkenoic acid, polymer with alkanepolyolpolyacrylate, 2,2′-azobis[2-methylbutanenitrile]-initiated.
P-17-0312A | 7 | 2/20/2019 | CBI | (G)Additive for electrocoat formulas | (G) Organic acid, compds. with bisphenol A-epichlorohydrin-polypropylene glycol diglycidyl ether polymer-disubstituted polypropylene glycol reaction products.
P-17-0313A | 7 | 2/20/2019 | CBI | (G)Additive for electrocoat formulas | (G) Phenol, 4,4′-(1-methylethylidene) bis-, polymer with 2-(chloromethyl) oxirane and alpha-(2-oxiranylmethyl)-omega-(2-oxiranylmethoxy) poly[oxy(methyl-1,2-ethanediyl)], reaction products with disubstituted amine and disubstituted polypropylene glycol, organic acid salts.
P-17-0314A | 7 | 2/20/2019 | CBI | (G)Additive for electrocoat formulas | (G) Organic acid, 2-substituted-, compds. with bisphenol A-epichlorohydrin-polypropylene glycol diglycidyl ether polymer-disubstituted aminedisubstituted polypropylene glycol reaction products.
P-17-0315A | 7 | 2/20/2019 | CBI | (G)Additive for electrocoat formulas | (G) Phenol, 4,4′-(1-methylethylidene) bis-, polymer with alpha-(2-substituted-methylethyl)-omega-(2-substituted-methylethoxy) poly[oxy(methyl-1,2-ethanediyl)], 2-(chloromethyl) oxirane and alpha-(2-oxiranylmethyl)-omega-(2-oxiranylmethoxy) poly[oxy(methyl-1,2-ethanediyl)], alkylphenyl ethers, reaction products with disubstituted amine, organic acid salts.
P-17-0316A | 7 | 2/20/2019 | CBI | (G)Additive for electrocoat formulas | (G) Organic acid, compds. with bisphenol A-epichlorohydrin-disubstituted polypropylene glycol-polypropylene glycol diglycidyl ether polymer alkylphenyl ethers-disubstituted amine reaction products.
P-17-0317A | 7 | 2/20/2019 | CBI | (G)Additive for electrocoat formulas | (G) Organic acid, compds. with bisphenol A-epichlorohydrin-polypropylene glycol diglycidyl ether polymer-disubstituted polypropylene glycol reaction products.
P-17-0375A | 4 | 2/8/2019 | CBI | (G) Paint additive | (G) 2-Oxepanone, polymer with diisocyanatohexane, alkyl-((hydroxyalkyl)-alkanediol and isocyanato-(isocyanatoalkyl)-trialkylcyclohexane, di-alkyl malonate- and polyalkylene glycol mono-Me ether-blocked, reaction products with (methylalkyl)-propanamine.
P-17-0395A | 4 | 2/7/2019 | CBI | (G) Water treatment additive | (G) Alkyl tri dithiocarbmate tri salt.
P-18-0036A | 5 | 2/8/2019 | CBI | (G) Water repellant | (S) Siloxanes and Silicones, di-Me, 3- [3-carboxy-2(or 3)- (octenyl)-1-oxopropoxy] propyl group-terminated.
P-18-0064A | 2 | 2/25/2019 | CBI | (G) Intermediate | (G) Fluorinated carboxylate esters and fluorinated alkoxyalkyl heterocycles.
P-18-0069A | 2 | 2/20/2019 | Sasol Chemicals (USA), LLC | (G) Polymer performance additive | (G) Surface modified boehmite.
P-18-0085A | 2 | 3/5/2019 | CBI | (G) Industrial use in oilfield | (G) Fatty acids reaction products with ethyleneamines and dialkyl ester.
P-18-0106A | 3 | 2/25/2019 | CBI | (S) Process aid | (G) Perfluoro[(alkenyl)oxy] alkane-, manuf. of, by-products from, distn. residues.
P-18-0120A | 4 | 3/19/2019 | Designer Molecules, Inc | (G) Adhesive component | (S) 1H-Pyrrole-2,5-dione, 1,1′-C36-alkylenebis-.
P-18-0131A | 4 | 3/5/2019 | Coim USA, Inc | (S) Polyol prepolymer in polyester foam applications | (G) Soybean oil, polymer with mixed difunctional glycols, glycerol, melamine, phthalic anhydride, poyethylene glycol, and terephathalic acid.
P-18-0169A | 7 | 2/15/2019 | C. L. Hauthaway & Sons Corp | (G) Protective coating | (G) Propanoic acid, 3-hydroxy-2-(hydroxymethyl)-2-methyl-, polymer with dimethyl carbonate, 1,6-hexanediol, diamine and 1,1′-methylenebis[4-isocyanatocyclohexane], acrylate-blocked, compds. with triethylamine.
P-18-0175A | 6 | 2/12/2019 | Hexion, Inc | (S) Food can coating; (S) Non-food contact can coating | (S) Formaldehyde, polymer with 4-(1,1-dimethylethyl) phenol and phenol, Bu ether.
P-18-0219A | 6 | 3/5/2019 | CBI | (G) Intermediate for topcoat | (G) Polythioether, short chain diol polymer terminated with aliphatic diisocyanate.
P-18-0247A | 3 | 3/13/2019 | CBI | (S) Crosslinker for automotive electrocoat | (G) Isocyanic acid, polymethylenepolyphenylene ester, polymer with 2-ethyl-2-(hydroxymethyl)-1,3-propanediol, polyetherpolyol, ¿, ¿′-[(1-methylethylidene) di-4,1-phenylene] bis[¿-hydroxypoly(oxy-1,2-ethanediyl)] and 1,2-propanediol, iso-Bu alc.- and 2-butoxyethanol- and 2-(2-butoxyethoxy) ethanol- and Et alc.- and methanol- and 1-methoxy-2-propanol-blocked.
P-18-0248A | 3 | 3/13/2019 | CBI | (S) Crosslinker for automotive electrocoat | (G) Isocyanic acid, polymethylenepolyphenylene ester, polymer with polyetherpolyol, 2-butoxyethanol- and 2-(2-butoxyethoxy) ethanol- and methanolblocked.
P-18-0249A | 3 | 3/13/2019 | CBI | (S) Crosslinker for automotive electrocoat | (G) Isocyanic acid, polymethylenepolyphenylene ester, polymer with polyetherpolyol, 2-butoxyethanol- and 2-(2-butoxyethoxy) ethanol- and methanoland 1-methoxy-2-propanol-blocked.
P-18-0250A | 3 | 3/13/2019 | CBI | (S) Crosslinker for automotive electrocoat | (G) Isocyanic acid, polymethylenepolyphenylene ester, polymer with polyetherpolyol, 2-butoxyethanol- and 2-(2-butoxyethoxy) ethanol- and 1(or2) -(2-methoxymethylethoxy) propanol-blocked.
P-18-0251A | 3 | 3/13/2019 | CBI | (S) Crosslinker for automotive electrocoat | (S) Isocyanic acid, polymethylenepolyphenylene ester, 2-butoxyethanol- and 2-(2-butoxyethoxy) ethanol- and methanol- and 1(or2) -(2-methoxymethylethoxy) propanol-blocked.
P-18-0252A | 3 | 3/13/2019 | CBI | (S) Crosslinker for automotive electrocoat | (S) Isocyanic acid, polymethylenepolyphenylene ester, 2-butoxyethanol- and 2-(2-butoxyethoxy) ethanol- and methanol- and 1-methoxy-2-propanol-blocked.
P-18-0258A | 2 | 3/7/2019 | CBI | (G) Copolyamide for packaging films; (G) Copolyamide for monofilamen; (G) Copolyamide for molding parts | (G) Dioic acids, polymers with caprolactam and alkyldiamines.
P-18-0259A | 2 | 3/7/2019 | CBI | (G) Copolyamide for packaging films; (G) Copolyamide for monofilamen; (G) Copolyamide for molding parts | (G) Fatty acids, dimers, hydrogenated, polymers with caprolactam and alkyl diamine.
P-18-0262A | 4 | 2/14/2019 | Seppic | (S) Function: Stabilizer of suspensions, Applications: Detergency, treatment of physical surfaces, development of soaps; (S) Function: thickener, Applications: Paints, adhesive; (S) Function: polishes, Applications: Wood care, leather care | (S) 2-Propenoic acid, 2-methyl-, dodecyl ester, polymer with ammonium 2-methyl-2-[(1-oxo-2-propen-1-yl) amino]-1-propanesulfonate (1:1), N, N-dimethyl-2-propenamide and. alpha-(2-methyl-1-oxo-2-propen-1-yl)-omega-(dodecyloxy) poly(oxy-1,2-ethanediyl).
P-18-0270A | 4 | 3/8/2019 | Specialty Elements, LLC | (S) Active co-solvent for solvent-based coatings; (S) Coalescent for industrial water-based coatings; (S) Coupling agent and solvent in industrial cleaners, rust removers, hard surface cleaners, and disinfectants; (S) Primary solvent in solvent-based silk screen printing inks; (S) Coupling agent for resins and dyes in water-based printing inks; (S) Other uses include a co- solvent for agricultural pesticides and may be used in the production of a wide variety of products and commodities such as polyester resins, engine coolants, latex paints, heat transfer fluids and deicing compounds, lubricants, plasticizers and cement grinding additives | (G) Ethanol, 2-butoxy-, 1,1′-ester.
P-18-0271A | 4 | 3/8/2019 | Specialty Elements, LLC | (S) Film forming coalescent for architectural coatings; (S) Film forming coalescent for consumer architectural coatings; (S) Film forming coalescent for automotive OEM coatings (electrodeposition primers); (S) Film forming coalescent for can and coil coatings; (S) Film forming coalescent for industrial wood coatings; (S) Film forming coalescent for floor polishes; (S) Film forming coalescent for industrial maintenance coatings; (S) Film forming coalescent for marine and wood coatings; (S) Film forming coalescent for consumer marine and wood coatings; (S) Film forming coalescent for transportation coatings; (S) Other uses include Graphic Arts—Printing Inks (Lithographic and Letterpress oil-based inks), Reactive Intermediate—Ester Derivatives for Plasticizers | (G) 2-Propanol, 1-butoxy-, 2,2′-ester.
P-18-0272A | 2 | 2/26/2019 | CBI | (G) Polymer composite additive | (G) Metal, alkylcarboxylate oxo complexes.
P-18-0274A | 5 | 3/13/2019 | CBI | (S) Chemical intermediate; (G) Additive | (G) Heterocycle fluoroalkyl sulfonyl.
P-18-0275A | 2 | 3/13/2019 | CBI | (G) Polymer additive | (G) Methanone phenylene fluoroalkyl sulfonyl heterocycle.
P-18-0282A | 11 | 3/7/2019 | Ashland, Inc | (G) Adhesive | (G) Fatty acid ester, polyether, diisocyanate polymer.
P-18-0283A | 4 | 3/1/2019 | CBI | (G)Open, non-dispersive use | (G) Hydroxy alkanoic acid, compds. with aminoalkoxyalcohol-epoxy polymer-alkanolamine reaction products.
P-18-0283A | 5 | 3/11/2019 | CBI | (G)Open, non-dispersive use | (G) Hydroxy alkanoic acid, compds. with aminoalkoxyalcohol-epoxy polymer-alkanolamine reaction products.
P-18-0284A | 2 | 3/1/2019 | CBI | (G) Polymer composite additive | (G) Inorganic acid, reaction products with alkyl alcohol.
P-18-0292A | 2 | 2/19/2019 | CBI | (G) Use in print resins | (G) Alkanediol, polymer with 5-isocyanato-1-(isocyanatomethyl)-1,3,3-trimethylcyclohexane, alkylaminoalkyl methacrylate-blocked.
P-18-0292A | 3 | 3/21/2019 | CBI | (G) Use in print resins | (G) Alkanediol, polymer with 5-isocyanato-1-(isocyanatomethyl)-1,3,3-trimethylcyclohexane, alkylaminoalkyl methacrylate-blocked.
P-18-0300A | 2 | 2/8/2019 | CBI | (S) Additive for automatic dishwashing detergent | (G) Heteromonocycle, alkenoic 1:1 salt, polymer with alpha-(2-methyl-1-oxo-2-propen-1-y) l-omegamethoxypoly(oxy-1,2-ethanediyl) and methyl-alkenoic acid.
P-18-0313A | 4 | 3/19/2019 | Ashland Inc | (G) Adhesive | (G) Alkoxylated glycol ether with 1,2-propanediol, reaction products with alkyl alcohol blocked 1,1′-methylenebis [4-isocyanatobenzene] homopolymer and 1,1′-methylenebis [4-isocyanatobenzene].
P-18-0322A | 6 | 2/7/2019 | CBI | (G) The notified substance is used as a fragrance ingredient in consumer products | (G) Heteromonocycle, 4,6-dimethyl-2-(1-phenylethyl)-.
P-18-0327A | 4 | 3/21/2019 | CBI | (G) Filler for non-dispersive resins | (G) Mixed metal oxide.
P-18-0341A | 3 | 3/15/2019 | CBI | (G) Component in coatings | (G) Alkane dicarboxylic acid, polymer with alkoxylated polyalcohol, alkyl polyglycol, alkyl dialcohol, and functionalized carboxylic acid.
P-18-0342A | 3 | 3/15/2019 | CBI | (G) Component in coatings | (G) Alkane dicarboxylic acid, polymer with alkyl polyglycol, alkyl dialcohol, and functionalized carboxylic acid.
P-18-0343A | 3 | 3/15/2019 | CBI | (G) Component in coatings | (G) Alkane dicarboxylic acid, polymer with alkoxylated polyalcohol, and alkyl dialcohol, (hydroxy alkyl) ester.
P-18-0344A | 3 | 3/15/2019 | CBI | (G) Component in coatings | (G) Aromatic dicarboxylic acid, polymer with alkane dicarboxylic acid, alkoxylated polyalcohol, and alkyl dialcohol.
P-18-0346A | 3 | 3/4/2019 | Chitec Technology Co., Ltd | (S) Antioxidant compounded into various polymers to be used in extrusion processes to fabricate articles | (S) 2,4,8,10-Tetraoxa-3,9-diphosphaspiro [5.5] undecane, 3,9-bis-[2-(1-methyl-1-phenylethyl)-4-(1,1,3,3-tetramethylbutyl) phenoxy]-.
P-18-0381A | 2 | 3/19/2019 | The Shepherd Color Company | (G) For use in exterior paints and plastics; (G) For use in coatings; (G) For use in high temperature engineering polymers; (G) For use in artist materials | (S) Indium manganese yttrium oxide.
P-18-0387A | 3 | 2/11/2019 | CBI | (G) Plastic additive | (G) Alkanal, reaction products with alkanediyl bis[alkyl-tris(alkyl-heterocycle)-1,3,5-triazine-2,4,6-triamine and hydrogen peroxide.
P-18-0388A | 3 | 2/11/2019 | CBI | (G) Plastic additive | (G) 1,3,5-triazine-2,4,6-triamine, alkanediyl bis[alkyl-tris(alkyl-heterocycle)-, allyl derivs., oxidized, hydrogenated.
P-18-0389A | 2 | 3/13/2019 | CBI | (G) Component in package coatings | (G) Alkenoic acid, alkyl-substituted, epoxy ester, polymer with alkyl alkenoate, alkene, and polylactide.
P-18-0393A | 2 | 3/15/2019 | CBI | (G) Paint | (G) Alkenoic acid, alkyl, alkyl ester, polymer with alkyl propenoate, vinyl carbomonocyle, substituted alkyl propenoate, alkyl 2-alkyl 2-propenoate, alkanediol mono(2-alkyl-2-propenoate) and bicarbomonocylo alkyl 2-alkyl-2-alkenoate, tertiary alkyl substituted alkane peroxoate initiated.
P-18-0394A | 2 | 2/25/2019 | CBI | (G) Chemical Intermediate | (G) Substituted benzylic ether polyethylene glycol alkyl ether derivative.
P-18-0402A | 3 | 3/11/2019 | CBI | (G) Fuel additive | (G) Phenol, alkanepolyolbis(heteroalkylene)bis-, polyalkylene derivs.
P-19-0009A | 4 | 2/7/2019 | Allnex USA, Inc. | (S) The PMN substance is used as a coating resin additive for corrosion protection | (G) Carbonmonocycles, polymer with haloalkyl substituted heteromonocycle and hydro-hydroxypoly[oxy(alkyl-alkanediyl)], dialkyl-alkanediamineterminated, hydroxyalkylated, acetates (salts).
P-19-0012A | 9 | 3/11/2019 | CBI | (S) Resin component for the polyisocyanurate; (S) Resin component in specialty polyurethane kits and systems for aerospace and military applications | (G) Benzenedicarboxylic acid, rection products with isobenzofurandione and diethylene glycol.
P-19-0015A | 3 | 3/1/2019 | CBI | (S) Emulsifier for use in asphalt applications | (G) Alkyl cyclic amide.
P-19-0021A | 2 | 2/13/2019 | CBI | (G) Pigment ink | (G) Hydroxyalkyl carboxylic acid, polymer with alkylamine, alkylene carbonate, alkanediol, isocyanate, compd. with alkylamine.
P-19-0022A | 2 | 2/13/2019 | CBI | (G) Pigment ink | (G) Hydroxyalkyl carboxylic acid, polymer with alkylamine, alkyl carbonate, alkanediol, isocyanate, compd. with alkylamine.
P-19-0025A | 2 | 2/21/2019 | Bercen, Inc | (G) Hydrophobe formulation | (S) 11-Docosene.
P-19-0026A | 4 | 2/27/2019 | Allnex USA, Inc. | (S) The PMN substance is an isolated intermediate incorporated as a component in several imported allnex coating resin products that are only applied by Cathodic Electrodeposition (CED) and used as additives for corrosion protection | (G) Alkanoic acid, compds. with substituted carbomonocycle-dialkyl-alkanediamine-halosubstitued heteromonocycle-polyalkylene glycol polymerdialkanolamine reaction products.
P-19-0028A | 6 | 2/22/2019 | CBI | (G) Lubricating oil additive | (G) Alkyl salicylate, metal salts.
P-19-0032A | 4 | 3/18/2019 | Presidium USA, Inc | (G) Polyol used in the manufacture of articles made of a polyurethane thermoset material | (G) Carbonic dichloride, polymer with 4,4′-(1-methylethylidene) bis[phenol] ester, polymer with tetrol and polyether tetrol.
P-19-0034A | 3 | 3/15/2019 | CBI | (G) Contained use as a component of tires | (G) Metal, bis (2,4-pentanedionato-kO2, kO4)-, (T-4)-.
P-19-0038A | 3 | 2/7/2019 | Allan Chemical Corporation | (S) Ink carrier for the ceramic industries | (S) Fatty acids, coco, iso-Bu esters.
P-19-0050A | 3 | 3/11/2019 | Kimes Technologies International, Inc | (S) Rust preventative | (S) Hydrocarbon waxes (petroleum), oxidized, Bu esters.
P-19-0053A | 2 | 3/13/2019 | Wacker Chemical Corporation | (S) Used as a surface treatment, sealant, caulk, and coating for mineral building materials such as concrete, brick, limestone, and plaster, as well as on wood, metal and other substrates. Formulations containing the cross-linker provide release and anti-graffiti properties, water repellency, weather proofing, and improved bonding in adhesive/sealant applications. The new substance is a moisture curing cross-linking agent which binds/joins polymers together when cured. Ethanol is released during cure, and once the cure reaction is complete, the product will remain bound in the cured polymer matrix | (S) 1-Butanamine, N-butyl-N-[(triethoxysilyl)methyl]-.
P-19-0064 | 1 | 3/4/2019 | The Sherwin Williams Company | (G) Polymeric film former for coatings | (G) 4,4′-methylenebis [2,6-dimethyl phenol] polymer with 2-(chloromethyl) oxirane, 1,4-benzyl diol, 2-methyl-2-propenoic acid, butyl 2-methyl 2-propenoate, ethyl 2-methyl 2-propenoate, and ethyl 2-propenoate, reaction products with 2-(dimethylamino) ethanol.
P-19-0064A | 2 | 3/18/2019 | The Sherwin Williams Company | (G) Polymeric film former for coatings | (G) 4,4′-methylenebis [2,6-dimethyl phenol] polymer with 2-(chloromethyl) oxirane, 1,4-benzyl diol, 2-methyl-2-propenoic acid, butyl 2-methyl 2-propenoate, ethyl 2-methyl 2-propenoate, and ethyl 2-propenoate, reaction products with 2-(dimethylamino) ethanol.
P-19-0065 | 4 | 3/22/2019 | eScientia Technologies, LLC | (S) Fire retardant for thermal plastics: Application: This product is the environmental protection Phosphazene flame retardant. It does not produce pollutants after burning. It is mainly used in PC and ABS resins. It has good flame retardancy on epoxy resin, it can be used to make EMC for IC Packaging, its flame retardancy is much better than Brominated flame retardant, the flame retardancy can reach UL-94V0 grade. Oxygen index could reach 33.1%. When it is used in Benzoxazine Resin glass cloth laminate, if the HPCTP is 10%, the grade of burning could reach V-0 grade, the parallel breakdown voltage is 47KV. When it is used in Polyethylene, the LOI of final flame retardancy polyethylene could reach 30-33. After used in viscose spinning solution, we could get the flame retardant viscose fiber with oxygen index 25.3-26.7. If the added amount is 12% in PC/ABS, it could pass the UL-94 V0 test. It also can be used in LED, powder coating, potting material and polymers | (S) 2lambda5, 4lambda5, 6lambda5—1,3,5,2,4,6 Triazatriphosphorine, 2,2,4,4,6,6—hexaphenoxy-.
P-19-0066 | 4 | 3/22/2019 | eScientia Technologies, LLC | (S) Fire retardant | (S) 2lambda5, 4lambda5,—1,3,5,2,4,6 Triazatriphosphorine, 2,2,4,4,6,6, -hexaphenoxy.
P-19-0067 | 2 | 3/19/2019 | CBI | (G) On site consumption as a raw material in the production of downstream chemicals, (G) Production of water-soluble corrosion inhibitors; (G) Production of oil soluble corrosion inhibitors. | (G) Triglyceride, reactions products with diethylenetriamine.
P-19-0069 | 1 | 3/19/2019 | CBI | (G) Curing agent for coatings | (G) Diisocyanatoalkane, homopolymer, di-alkyl malonate- and alkyl acetoacetate-blocked, isoalkyl methylalkyl esters.
P-19-0070 | 1 | 3/22/2019 | CBI | (G) Curing agent for coatings | (G) Oxacyclanone, polymer with diisocyanatoalkane, and alkyl-(substitutedalkyl)-polyol, di-alkyl malonate- and alkyl acetoacetate-blocked, alkyl esters.
P-19-0071 | 1 | 3/22/2019 | CBI | (S) Physical property modifier for polymers | (G) Trimethylolpropane, alkenoic acid, triester.
P-19-0072 | 1 | 3/26/2019 | CBI | (G) Raw material used in chemical manufacture | (S) 1-Butanol, reaction products with 2-[(2-propen-1-yloxy)- methyl] oxirane.
SN-18-0005A | 3 | 3/3/2019 | CBI | (G) Monomer for industrial adhesives, coatings and inks | (S) Butanoic acid, 3-mercapto-,1,1′-[2,2-bis[(3-mercapto-1-oxobutoxy) methyl]-1,3-propanediyl] ester.
SN-18-0013A | 2 | 2/27/2019 | CBI | (G) Intermediate | (G) Lithiated metal oxide.
SN-18-0016A | 4 | 3/20/2019 | Hexion, Inc | (G) Reactive polymer; (S) Reactive polyol for composites; (S) Reactive polyol for 2- part coatings; (S) Reactive polyol for 1- part coatings; (S) Reactive polyol for sealants; (S) Reactive modifier for bonded abrasives; (S) Reactive modifier for refractory; (S) Reactive modifier for glass inserts; (S) Reactive modifier for coated abrasives; (S) Reactive modifier for friction; (S) Reactive modifier for fiber bonding; (S) Reactive modifier for carbon (liquid EPF); (S) Reactive modifier for carbon (powder EPF) | (G) Modified phenol-formaldehyde resin.
*The term `Approved' indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 03/01/2019 to 03/31/2019
Case No. | Received date | Commencement date | If amendment, type of amendment | Chemical substance
P-07-0541A | 3/27/2019 | 11/14/2007 | Generic chemical name updated | (G) Diaminodiol, polymer with diisocyanate, polyether alcohol, polyether amine, benzyl chloride-quaternized.
P-11-0294 | 3/5/2019 | 3/24/2014 | N | (S) Carbonic dichloride, polymer with 4,4′-(1-methylethylidene)bis(phenol) and 4,4′-(3,3,5-trimethylcyclohexylidene)bis(phenol)), bis(4-(1,1-dimethylethyl)phenyl) ester.
P-11-0450 | 2/28/2019 | 2/17/2019 | N | (S) Fatty acids, carnauba-wax.
P-11-0451 | 2/28/2019 | 2/17/2019 | N | (S) Fatty acids, carnauba wax, esters with 1,3-butanediol; (S) Fatty acids, Carnauba-wax, calcium salts.
P-11-0452 | 2/28/2019 | 2/17/2019 | N | (S) Fatty acids, carnauba-wax, ethylene esters.
P-14-0382 | 3/8/2019 | 2/13/2019 | N | (G) Quaternary ammonium compounds, tri-C8-10-alkylmethyl, hydrogen sulfates.
P-16-0360 | 3/22/2019 | 3/17/2019 | N | (S) Poly (oxy-1,2-ethanediyl), alpha- (1-oxodocosyl)- omega- [(1-oxodocosyl)oxy]-.
P-16-0421 | 3/18/2019 | 2/20/2019 | N | (S) Flue dust, glass manufacturing, desulfurization.
P-17-0354 | 3/4/2019 | 2/4/2019 | N | (G) (substituted-dialkyl(C=1~7)silyl) alkanenitrile.
P-18-0030 | 3/22/2019 | 3/14/2019 | N | (G) Poly[oxy(methyl-alkylendiyl)],alpha,alpha′,alpha″-1,2,3-alkanetriyltris[omega-hydroxy-, polymer with 1,1′-alkylenebis[4-isocyanatocarbomonocycle], 2-substituted ethyl acrylate- and 2-substituted ethyl metacrylate-blocked.
P-18-0123 | 3/6/2019 | 2/20/2019 | N | (S) Hydrogen lithium nickel oxide.
P-18-0124 | 3/6/2019 | 2/21/2019 | N | (S) Lithium nickel potassium oxide.
P-18-0136 | 3/22/2019 | 2/22/2019 | N | (G) 1-Butanaminium,N,N,N-tributyl-,2(or5)-[[benzoyldihydrodioxo[(sulfophenyl)amino]heteropolycycle]oxy]-5(or2)-(1,1-dimethylpropyl)benzenesulfonate (2:1).
P-18-0233 | 3/4/2019 | 2/13/2019 | N | (G) Alkyl Alkenoic acid, alkyl ester, telomer with alkylthiol, substituted carbomonocycle, substituted alkyl alkyl alkenoate and hydroxyalkyl alkenoate, tert-butyl alkyl peroxoate-initiated.
P-18-0318 | 3/5/2019 | 3/4/2019 | N | (S) 1-Octadecanaminium, N,N-dimethyl-N-[3-(triethoxysilyl)propyl]- chloride.
* The term `Approved' indicates that a submission has passed a quick initial screen ensuring all required information and documents have been provided with the submission.

In Table III of this unit, EPA provides the following information (to the extent such information is not subject to a CBI claim) on the test information that have passed an initial screening by EPA during this time period: The EPA case number assigned to the test information; the date the test information was received by EPA, the type of test information submitted, and chemical substance identity.

Table III—Test Information Received From 03/01/2019 to 03/31/2019
Case No. | Received date | Type of test information | Chemical substance
P-08-0087 | 3/15/2019 | Hydrolysis as a Function (OECD 111) | (G) Alkyl acids, reaction products with metal salt of an alkanol.
P-08-0508 | 3/25/2019 | In Vitro Mammalian Cytogenetic Test (OECD 473), Mutagenicity Testing of H-2O421 in the Salmonella Typhimurium Plate Incorporation Assay (OECD 473), Combined Two-Week Inhalation Toxicity and Micronucleus Studies, Thermal Transformation Byproduct, Determination of the Water Solubility and Vapor Pressure of H-28327 (OECD 104-105), Determination of the n-Octanol/Water Partition Coefficient of H-28327 (OPPTS 830.7560) | (S) Propanoic acid, 2,3,3,3-tetrafluoro-2-(1,1,2,2,3,3,3-heptafluoropropoxy).
P-08-0509 | 3/25/2019 | In Vitro Mammalian Cytogenetic Test (OECD 473), Mutagenicity Testing of H-2O421 in the Salmonella Typhimurium Plate Incorporation Assay (OECD 473), Combined Two-Week Inhalation Toxicity and Micronucleus Studies, Thermal Transformation Byproduct, Determination of the Water Solubility and Vapor Pressure of H-28327 (OECD 104-105), Determination of the n-Octanol/Water Partition Coefficient of H-28327 (OPPTS 830.7560) | (S) Propanoic acid, 2,3,3,3-tetrafluoro-2-(1,1,2,2,3,3,3-heptafluoropropoxy)-, ammonium salt (1:1).
P-10-0060 | 3/21/2019 | Studies for Triggered Testing: (OECD 421), Modified One-Generation Reproduction Test (Mice) (OPPTS 850.3050) | (G) Partially fluorinated alcohol substituted glycol.
P-15-0450 | 3/20/2019 | 90-Day Inhalation Toxicity Study (OECD 413) | (G) Lithium mixed metal oxide.
P-16-0543 | 3/14/2019 | Exposure Monitoring Report | (G) Halogenophosphoric acid metal salt.
P-18-0060 | 3/26/2019 | Sediment and Soil Adsorption/Desorption Isotherm (OECD 106), Acute Dermal Toxicity (OECD 402), Mammalian Erythrocyte Micronucleus Test (OECD 474) | (S) 1-butanaminium, 4-amino-N-(2-hydroxy-3-sulfopropyl)-N, N-dimethyl-4-oxo-, N-coco alkyl derivs., inner salts.
P-18-0093 | 3/1/2019 | Dust Control, Analytical Test Results, Water Immersion Testing, H2O Immersion with Proton Pulse Sequence, Plastic Abrasions SEM Summary and SEM Images, Risks Identified in Focus Report | (G) Pentacyclo [9.5.1.13,9.15,15.17,13] octasiloxane, 1,3,5,7,9,11,13,15-octakis (polyfluoroalkyl).
P-18-0177 | 3/5/2019 | Solubility in Alga Growth Media (OECD 201) | (S) Waxes and waxy substances, rice bran, oxidized.
P-18-0286 | 3/8/2019 | Supplemental Worker Exposure | (S) Propane, 1,1,1,3,3,3-hexafluoro-2-methoxy.
P-18-0293 | 3/21/2019 | In Vitro Skin Sensitization Assays (OECD 422D) | (S) Propanedioic acid, 2-methyl- ene-, 1,3-dihexyl ester.
P-18-0294 | 3/21/2019 | In Vitro Skin Sensitization Assays (OECD 422D) | (S) Propanedioic acid, 2-methyl- ene-, 1,3-dicyclohexyl ester.
P-18-0325 | 3/18/2019 | Fish Acute Toxicity (OECD 203), Daphnia Acute Toxicity (OECD 202), Algae Acute Toxicity (OECD 201), Acute Oral Toxicity (OECD 401), Acute Dermal Toxicity (OECD 402), Dermal Irritation (OECD 404), Eye Irritation (OECD 405), Ready Biodegradability (OECD 301B), Activated Sludge Respiration Inhibition Tests (OECD 209), Ames Test (OECD 471), Skin Sensitization (OECD 406), Chromosome Aberration Test (OECD 473), 28-Day Oral Toxicity Study (OECD 407) | (G) Benzenesulfonic acid, alkyl derivs., compds. with diisopropanolamine.
SN-18-0003 | 3/5/2019 | Algae Growth Inhibition Study (OECD 201) | (S) Lithium nickel oxide (LiNiO2).

If you are interested in information that is not included in these tables, you may contact EPA's technical information contact or general information contact as described under FOR FURTHER INFORMATION CONTACT to access additional non-CBI information that may be available.

Authority: 15 U.S.C. 2601 et seq.

Dated: June 6, 2019.
Megan Carroll,
Acting Director, Information Management Division, Office of Pollution Prevention and Toxics.

[FR Doc. 2019-13099 Filed 6-19-19; 8:45 am]

BILLING CODE 6560-50-P